DEPARTMENT OF HOMELAND SECURITY

Coast Guard

33 CFR Part 117

[Docket No. USCG-2015-0008]

Drawbridge Operation Regulation; Mississippi River, Sabula, IA

AGENCY: Coast Guard, DHS.

ACTION: Notice of deviation from drawbridge regulations.

SUMMARY: The Coast Guard has issued a temporary deviation from the operating schedule that governs the Sabula Railroad Drawbridge across the Mississippi River, mile 535.0, at Sabula, Iowa. This deviation is necessary for scheduled maintenance on the bridge. This deviation allows the bridge to open on signal if at least 24 hours advance notice is given.

DATES: This deviation is effective from 4 p.m. January 9, 2015, until 9 a.m. March 1, 2015.

ADDRESSES: The docket for this deviation, (USCG-2015-0008) is available at http://www.regulations.gov. Type the docket number in the “SEARCH” box and click “SEARCH.” Click on Open Docket Folder on the line associated with this deviation. You may also visit the Docket Management Facility in Room W12-140 on the ground floor of the Department of Transportation, West Building, 1200 New Jersey Avenue SE., Washington, DC 20590, between 9 a.m. and 5 p.m., Monday through Friday, except Federal Holidays.

FOR FURTHER INFORMATION CONTACT: If you have questions on this temporary deviation, call or email Eric A. Washburn, Bridge Administrator, Western Rivers, Coast Guard; telephone 314-269-2378, email Eric.Washburn@uscg.mil. If you have questions on viewing the docket, call Cheryl F. Collins, Program Manager, Docket Operations, telephone 202-366-9826.

SUPPLEMENTARY INFORMATION: The Canadian Pacific Railroad requested a temporary deviation for the Sabula Railroad Drawbridge, across the Upper Mississippi River, mile 535.0, at Sabula, Iowa to open on signal if at least 24 hours advance notice is given for 51 days from 4 p.m., January 9, 2015, to 9 a.m., March 1, 2015 for scheduled maintenance on the bridge. The Sabula Railroad Drawbridge currently operates in accordance with 33 CFR 117.5, which states the general requirement that drawbridge shall open on signal.

There are no alternate routes for vessels transiting this section of the Upper Mississippi River.

Winter conditions on the Upper Mississippi River coupled with the closure of Army Corps of Engineer's Lock No. 12 (Mile 556.7 UMR) and Lock No. 13 (Mile 522.5 UMR) from 7:30 a.m. December 15, 2015 until 11 a.m., March 4, 2015 will preclude any significant navigation demands for the drawspan opening.

The Sabula Railroad Drawbridge, in the closed-to-navigation position, provides a vertical clearance of 18.1 feet above normal pool. Navigation on the waterway consists primarily of commercial tows and recreational watercraft and will not be significantly impacted. This temporary deviation has been coordinated with waterway users. No objections were received.

In accordance with 33 CFR 117.35(e), the drawbridge must return to its regular operating schedule immediately at the end of the effective period of this temporary deviation. This deviation from the operating regulations is authorized under 33 CFR 117.35.

Dated: January 9, 2015.
Eric A. Washburn,
Bridge Administrator, Western Rivers.

[FR Doc. 2015-00712 Filed 1-16-15; 8:45 am]

BILLING CODE 9110-04-P